Executive Order 13592 of December 2, 2011

Improving American Indian and Alaska Native Educational Opportunities and Strengthening Tribal Colleges and Universities

By the authority vested in me as President by the Constitution and the laws of the United States of America, I hereby order as follows:

Section 1. Policy. The United States has a unique political and legal relationship with the federally recognized American Indian and Alaska Native (AI/AN) tribes across the country, as set forth in the Constitution of the United States, treaties, Executive Orders, and court decisions. For centuries, the Federal Government's relationship with these tribes has been guided by a trust responsibility—a long-standing commitment on the part of our Government to protect the unique rights and ensure the well-being of our Nation's tribes, while respecting their tribal sovereignty. In recognition of that special commitment—and in fulfillment of the solemn obligations it entails—Federal agencies must help improve educational opportunities provided to all AI/AN students, including students attending public schools in cities and in rural areas, students attending schools operated and funded by the Department of the Interior's Bureau of Indian Education (BIE), and students attending postsecondary institutions, including Tribal Colleges and Universities (TCUs). This is an urgent need. Recent studies show that AI/AN students are dropping out of school at an alarming rate, that our Nation has made little or no progress in closing the achievement gap between AI/AN students and their non-AI/AN student counterparts, and that many Native languages are on the verge of extinction.

It is the policy of my Administration to support activities that will strengthen the Nation by expanding educational opportunities and improving educational outcomes for all AI/AN students in order to fulfill our commitment to furthering tribal self-determination and to help ensure that AI/AN students have an opportunity to learn their Native languages and histories and receive complete and competitive educations that prepare them for college, careers, and productive and satisfying lives.

My Administration is also committed to improving educational opportunities for students attending TCUs. TCUs maintain, preserve, and restore Native languages and cultural traditions; offer a high-quality college education; provide career and technical education, job training, and other career-building programs; and often serve as anchors in some of the country's poorest and most remote areas.

Sec. 2. Definitions. (a) “Agency” means any executive department or agency designated by the Secretary of Education and the Secretary of the Interior to participate in this order.

(b) “Indian tribe” means an Indian or Alaska Native tribe, band, nation, pueblo, village, or community that the Secretary of the Interior acknowledges to exist as an Indian tribe pursuant to the Federally Recognized Indian Tribe List Act of 1994, 25 U.S.C. 479a.

(c) “American Indian and Alaska Native” means a member of an Indian tribe, as membership is defined by the tribe.

(d) “Public school” means a Head Start center or a pre-kindergarten, elementary, or secondary school that is predominantly funded by public means through the Federal Government, a State, a local educational agency, or an Indian tribal government, including a school operated directly by or through contract or grant with the BIE, an Indian tribe, or a State, county, or local government.

(e) “Tribal Colleges and Universities” are those institutions that are chartered by their respective Indian tribes through the sovereign authority of the tribes or by the Federal Government, and defined in section 316 of the Higher Education Act of 1965 (20 U.S.C. 1059c).

Sec. 3. White House Initiative on American Indian and Alaska Native Education.

(a) Establishment. There is hereby established the White House Initiative on American Indian and Alaska Native Education (Initiative). The Secretary of Education and the Secretary of the Interior will co-chair the Initiative. The Secretary of Education shall appoint an Executive Director who shall be responsible for overseeing implementation of the Initiative. This individual shall be a senior-level, Department of Education official who shall serve as the Secretary of Education's senior policy advisor on Federal policies affecting AI/AN education.

The Executive Director shall work closely with the BIE Director and shall provide periodic reports to the Secretaries of Education and the Interior regarding progress achieved under the Initiative. The Executive Director shall coordinate frequent consultations with tribal officials and shall provide staff support for the National Advisory Council on Indian Education (NACIE), authorized by section 7141 of the Elementary and Secondary Education Act of 1965 (ESEA) (20 U.S.C. 7471).

(b) Mission and Functions. (1) The Initiative shall help expand educational opportunities and improve educational outcomes for all AI/AN students, including opportunities to learn their Native languages, cultures, and histories and receive complete and competitive educations that prepare them for college, careers, and productive and satisfying lives, by:

(i) working closely with the Executive Office of the President to help ensure AI/AN participation in the development and implementation of key Administration priorities;

(ii) strengthening the relationship between the Department of Education, which has substantial expertise and resources to help improve Indian education, and the Department of the Interior and its BIE, which directly operates or provides grants to tribes to operate an extensive primary, secondary, and college level school system for AI/AN children and young adults;

(iii) coordinating, in consultation with the Department of Education's Director of Indian Education, programs administered by the Department of Education and other executive branch agencies regarding AI/AN education;

(iv) serving as a liaison with other executive branch agencies on AI/AN issues and advising those agencies on how they might help to promote AI/AN educational opportunities;

(v) reporting on the development, implementation, and coordination of education policy and programs that affect AI/AN students;

(vi) furthering tribal sovereignty by supporting efforts, consistent with applicable law, to build the capacity of tribal educational agencies and TCUs to provide high-quality education services to AI/AN children;

(vii) developing in partnership with tribal educational agencies a more routine and streamlined process for entering into agreements for educational studies conducted on tribal lands;

(viii) developing sufficient data resources to inform progress on Federal performance indicators, in close collaboration with the Department of Education's National Center for Educational Statistics;

(ix) encouraging and coordinating Federal partnerships with public, private, philanthropic, and nonprofit entities to help increase the readiness of AI/AN students for school, college, and careers, and to help increase the number and percentage of AI/AN students completing college; and

(x) developing a national network of individuals, organizations, and communities to share best practices in AI/AN education and encouraging them to implement these practices.

(2) In order to help expand educational opportunities and improve education outcomes for AI/AN students, the Initiative shall promote, encourage, and undertake efforts, consistent with applicable law, to meet the following objectives:

(i) increasing the number and percentage of AI/AN children who enter kindergarten ready for success through improved access to high-quality early learning programs and services, including Native language immersion programs, that encourage the learning and development of AI/AN children from birth through age five;

(ii) supporting the expanded implementation of education reform strategies that have shown evidence of success in enabling AI/AN students to acquire a rigorous and well-rounded education and increasing their access to the support services that prepare them for college, careers, and civic involvement;

(iii) increasing the number and percentage of AI/AN students who have access to excellent teachers and school leaders, including effective science, technology, engineering, and mathematics (STEM), language, and special education teachers, in part by supporting efforts to improve the recruitment, development, and retention of effective AI/AN teachers and other effective teachers and school leaders, particularly through TCUs;

(iv) reducing the AI/AN student dropout rate and helping a greater number and percentage of those students who stay in high school to be ready for college and careers by the time of their graduation and college completion, in part by promoting a positive school climate and supporting successful and innovative dropout-prevention and recovery strategies that better engage AI/AN youths in their learning and help them catch up academically;

(v) providing pathways that enable those who have dropped out to reenter educational or training programs and acquire degrees, certificates, or industry-recognized credentials and obtain quality jobs, and expanding access to high-quality education programs leading to career advancement, especially in the STEM fields, by supporting adult, career, and technical education;

(vi) increasing college access and completion for AI/AN students through strategies to strengthen the capacity of postsecondary institutions, particularly TCUs; and

(vii) helping to ensure that the unique cultural, educational, and language needs of AI/AN students are met.

(3) To facilitate a new partnership between the Department of Education and the Department of the Interior, to improve AI/AN education, the Executive Director shall work with the BIE Director and develop a Memorandum of Understanding (MOU) between the two Departments that will take advantage of both Departments' expertise, resources, and facilities. The MOU shall be completed within 120 days of the date of this order. Among other things, the MOU shall address how the Departments will collaborate in carrying out the policy set out in section 1 of this order.

(c) Funding and Administrative Support. Subject to the availability of appropriations, the Department of Education shall fund the Initiative, including NACIE. The Department shall also provide administrative support for the Initiative to the extent permitted by law and within existing appropriations.

(d) Interagency Working Group. There is established the Interagency Working Group on AI/AN education and TCUs, which shall be convened by the Initiative's Executive Director. The Working Group shall consist of senior officials from the Department of Education and the Department of the Interior and officials from the Departments of Justice, Agriculture, Labor, Health and Human Services, and Energy, the Environmental Protection Agency, and the White House Domestic Policy Council, as well as such additional agencies and offices as the Secretaries of Education and the Interior may designate. Senior officials shall be designated by the heads of their respective agencies and offices. The Secretaries of Education and the Interior shall serve as the co-chairs of the Interagency Working Group.

(e) Federal Agency Plans. (1) Each agency designated by the co-chairs as a member of the Interagency Working Group shall develop and implement a two-part, 4-year plan of the agency's efforts to fulfill the purposes of this order, with part one of the plan focusing on all AI/AN students except for those attending TCUs, and part two focusing on AI/AN students attending TCUs. Each agency plan shall include:

(i) annual performance indicators and appropriate measurable objectives with which the agency will measure its success in meeting the goals of this order;

(ii) information on how the agency intends to increase the capacity of educational agencies and institutions, including our Nation's public schools and TCUs, to deliver high-quality education and related social services to all AI/AN students; and

(iii) agency efforts to enhance the ability of these educational agencies and institutions serving AI/AN students to compete effectively for grants, contracts, cooperative agreements, and other Federal resources with which to serve the education needs of AI/AN students, and to encourage eligible schools and colleges serving those students to apply for Federal grants and participate in Federal education programs, as appropriate. Agency plans may also emphasize access to high-quality educational opportunities for AI/AN students, consistent with requirements of the ESEA, the Individuals with Disabilities Education Act, and other applicable Federal education statutes; the preservation and revitalization of tribal languages and cultural traditions; and innovative approaches to more seamlessly align early learning, elementary, and secondary education programs with the work of TCUs.

(2) Submission. Each agency shall submit its plan to the Initiative by a deadline established by the co-chairs. In consultation with NACIE, the Initiative shall then review agency plans and develop, for submission to the President, a synthesized interagency plan to achieve the aims of this order.

(3) Annual Performance Reports. Each agency shall submit to the Initiative an Annual Performance Report that measures the agency's performance against the objectives set forth in its plan. In consultation with NACIE, the Initiative shall review and combine Annual Performance Reports from the various agencies into one annual report, which shall be submitted to the Secretaries of Education and the Interior for review.

(f) Private Sector. In consultation with NACIE, and consistent with applicable law, the Interagency Working Group, led by the Executive Director, shall encourage the private sector to assist State- and locally-operated public schools that serve large numbers of AI/AN students, including those attending our Nation's public schools, publicly-funded preschools, and TCUs, through increased use of such strategies as:

(1) Providing funds to support the preservation and revitalization of Native languages and cultures;

(2) Providing funds to support increased institutional endowments;

(3) Helping these schools develop expertise in financial and facilities management, information systems, and curricula; and

(4) Providing resources for the hiring and training of effective teachers and administrators.

Sec. 4. Study. In carrying out this order, the Secretaries of Education and the Interior shall study and collect information on the education of AI/AN students.

Sec. 5. General Provisions. (a) NACIE shall serve as the Initiative's advisory committee.

(b) Insofar as the Federal Advisory Committee Act, as amended (5 U.S.C. App.), may apply to the Initiative, any functions of the President under that Act, except for those of reporting to the Congress, shall be performed by the Secretary of Education, in consultation with the Secretary of the Interior, in accordance with the guidelines issued by the Administrator of General Services.

(c) This order revokes Executive Order 13270 of July 3, 2002, Executive Order 13336 of April 30, 2004, and section 1(n) of Executive Order 13585 of September 30, 2011.

(d) The heads of agencies shall assist and provide such information to the Initiative as may be necessary to carry out its functions, consistent with applicable law.

(e) Nothing in this order shall be construed to impair or otherwise affect:

(1) authority granted by law to an executive department, agency, or the head thereof; or

(2) functions of the Director of the Office of Management and Budget relating to budgetary, administrative, or legislative proposals.

(f) This order is not intended to, and does not, create any right or benefit, substantive or procedural, enforceable at law or in equity by any party against the United States, its departments, agencies, or entities, its officers, employees, or agents, or any other person.

THE WHITE HOUSE,

December 2, 2011.

[FR Doc. 2011-31624

Filed 12-7-11; 8:45 am]

Billing code 3295-F2-P